DEPARTMENT OF EDUCATION

34 CFR Chapter III

[CFDA Number: 84.373M.]

Final Priority; Technical Assistance on State Data Collection—IDEA Data Management Center

AGENCY: Office of Special Education and Rehabilitative Services, Department of Education.

ACTION: Final priority.

SUMMARY: The Assistant Secretary for the Office of Special Education and Rehabilitative Services (OSERS) announces a priority under the Technical Assistance on State Data Collection program. The Assistant Secretary may use this priority for competitions in fiscal year (FY) 2014 and later years. We take this action to fund a cooperative agreement to establish and operate an IDEA Data Management Center (Center) that will provide technical assistance (TA) to improve the capacity of States to meet the data collection requirements of the Individuals with Disabilities Education Act (IDEA).

DATES: This priority is effective September 4, 2014.

FOR FURTHER INFORMATION CONTACT: Meredith Miceli, U.S. Department of Education, 400 Maryland Avenue SW., Room 4071, Potomac Center Plaza (PCP), Washington, DC 20202-2600. Telephone: (202) 245-6028 or by email: Meredith.Miceli@ed.gov.

If you use a telecommunications device for the deaf (TDD) or a text telephone (TTY), call the Federal Relay Service (FRS), toll free, at 1-800-877-8339.

SUPPLEMENTARY INFORMATION: Purpose of Program: The purpose of the Technical Assistance on State Data Collection program is to improve the capacity of States to meet the IDEA data collection and reporting requirements. Funding for the program is authorized under section 611(c)(1) of IDEA, which gives the Secretary the authority to reserve funds appropriated under Part B of the IDEA to provide TA activities authorized under section 616(i) of IDEA. Section 616(i) of IDEA requires the Secretary to review the data collection and analysis capacity of States to ensure that data and information determined necessary for implementation of IDEA section 616 are collected, analyzed, and accurately reported to the Secretary. It also requires the Secretary to provide TA, where needed, to improve the capacity of States to meet the data collection requirements under IDEA Parts B and C, which include the data collection requirements in IDEA sections 616 and 618.

Program Authority: 20 U.S.C. 1411(c), 1416(i), 1418(c), and 1442.

Applicable Program Regulations: 34 CFR 300.702.

We published a notice of proposed priority for this competition in the Federal Register on April 17, 2014 (79 FR 21663). That notice contained background information and our reasons for proposing this particular priority. Except for minor editorial and technical revisions (noted below), there are no differences between the proposed priority and this final priority. We made these minor technical revisions:

(a) Clarified the types of supports and TA the Center must provide when assisting States in the use of the open source tools developed, as described in subsection (b) of the Technical Assistance and Dissemination Activities section of this priority;

(b) Added the Center on Systemic Improvement (CSI) (if funded) ¹ to the list of Department-funded projects that the Center must communicate and collaborate with on an ongoing basis, as described in subsection (a) of the Coordination Activities section of this priority;

¹ For additional information regarding CSI, see: www.gpo.gov/fdsys/pkg/FR-2014-06-17/pdf/2014-14154.pdf.

(c) Added application requirement (b)(4)(ii), which requires applicants to demonstrate how the Center will support State staff in taking a leadership role in restructuring and aligning data systems within States that are receiving TA from the Center; and

(d) Revised application requirement (f)(4)(ii), which requires applicants to budget for a two and one-half day project directors' meeting in Washington, DC, to occur every other year beginning with the meeting scheduled for Summer, 2016.

Public Comment: In response to our invitation in the notice of proposed priority, three parties submitted comments on the proposed priority.

We group major issues according to subject. Generally, we do not address technical and other minor changes, or comments not directly related to the proposed priority.

Analysis of Comments and Changes: An analysis of the comments and of any changes in the priority since publication of the notice of proposed priority follows.

Comment: Three commenters indicated there was overlap between the Center's activities and the activities of the IDEA Data Center (IDC) and the Center for IDEA Early Childhood Data Systems (DaSy).

Discussion: We do not agree that there is overlap between the Center's activities and the activities of IDC and DaSy. The Center will focus on: (1) Providing TA to States to improve their data management procedures and data systems architecture to build data files and reports to improve States' capacity to meet the Part B reporting requirements under sections 616 and 618 of IDEA; and (2) improving States' capacity to work with source systems (e.g., statewide longitudinal data systems (SLDS)) to report high-quality data as required under sections 616 and 618 of IDEA. The other data centers (IDC and DaSY) funded by the Office of Special Education Programs (OSEP) do not address the need to assist States in restructuring their existing, often fragmented, data systems and in aligning their data collection for students with disabilities with their data collection for the general student population in the SLDS so that States can improve the validity and reliability of the data they report to the Secretary and the public as required under section 616 and 618 of IDEA. The IDC is focused on assisting States with developing necessary data validation processes and procedures to ensure high-quality data submissions to OSEP, but does not work on data management or system architecture. DaSy provides TA to States to support Part C and Part B State preschool programs' participation in the development or enhancement of integrated early childhood data systems. Changes: None.

Comment: Two commenters stressed the importance of including general education staff in efforts to restructure and align data systems within the State; and one commenter indicated that States, rather than an OSEP-funded center, should take the lead in these efforts.

Discussion: We agree it is important to include general education staff in the restructuring and alignment of data systems within the State. For this reason, we are requiring the Center to collaborate and coordinate with the State SLDS programs. Additionally, we are requiring the Center to use the Common Education Data Standards (CEDS) that the Department has coordinated the development of in collaboration with States and local school districts. We anticipate that this Center will help special education staff engage and work with the general education and SLDS staff within their States to reach the goal of using SLDS to report high-quality IDEA data. We also agree that States can and should lead these efforts and have revised the priority to clarify their role.

Changes: We have revised paragraph (b)(4)(ii) of the application requirements of the priority to require that applicants describe how the Center will support State staff in taking a leadership role in restructuring and aligning data systems within the States that are receiving TA from the Center.

Comment: Two commenters noted the significant effort and time a State would need to invest in order to appropriately use an open source tool. These commenters noted that States would need to transfer data into a data store from which an EDFacts file could be created with the open source tool. They stressed that each State would need to get its data into a uniform file structure in order for the generic code to create the EDFacts files. In addition, these commenters questioned whether the open source tool would be worth the amount of time and money it would take to create it.

Discussion: We anticipate that the Center will provide TA on preparing State data for use with open source tools and that this assistance will be highly valued by many States and, therefore, an excellent use of Federal funds. State utilization of the open source tools will be on a voluntary basis.

We expect that the open source tools will be based on CEDS. CEDS will provide a common vocabulary and data model for all States to use in order to make the open source tools accessible. The Center will assist States in mapping their data systems to CEDS in order to use the open source tool. We have revised the priority to clarify that the Center must provide this assistance.

Changes: In paragraph (b)(3) of the Technical Assistance and Dissemination Activities section of the priority, we have added, as a required activity, that the Center assist States in preparing their data for use of the open source tools that are developed under this priority.

Comment: One commenter recommended that the Center work with CSI to provide TA to States on using the data systems developed or refined by the proposed Center's work in the development of their State Systemic Improvement Plans (SSIP).

Discussion: We agree that the IDEA Data Management Center should collaborate and coordinate with CSI (if funded) to further promote the use of high-quality IDEA data.

Changes: We have revised the priority to include CSI in the list of Department-funded projects that the Center will communicate and collaborate with on an ongoing basis.

Comment: One commenter recommended that the Center work with the Department to integrate and align the various reporting systems as a way to improve the overall quality of the data and facilitate use of the data.

Discussion: We understand the commenter's suggestion. Neither the Department nor the Center can revise the data that States must submit to the Department under different statutes (e.g., sections 616 and 618 of IDEA and under the Elementary and Secondary Education Act). However, under this priority, the Department has the authority, under section 616(i)(2) of IDEA, to provide TA (from funds reserved under section 611(c) from FY 2013) to improve the capacity of States to meet the IDEA Part B and Part C data collection requirements. Thus, the Center will assist the Department by helping States directly integrate and align State-level data reporting systems as a way to improve the overall quality of the data and facilitate use of the data that is reported to the Department and used by the public.

Changes: None.

Final Priority:

IDEA Data Management Center.

The purpose of this priority is to fund a cooperative agreement to establish and operate an IDEA Data Management Center (Center) to achieve, at a minimum, the following expected outcomes: (a) Improve States' data management procedures and data systems architecture to build data files and reports to improve States' capacity to meet the Part B reporting requirements under sections 616 and 618 of IDEA; and (b) improve States' capacity to utilize their SLDS to report high-quality data under IDEA Part B as required under sections 616 and 618 of IDEA. The Center's work will comply with the privacy and confidentiality protections in the Family Educational Rights and Privacy Act (FERPA) and IDEA and will not provide the Department with access to child-level data.

Project Activities. To meet the requirements of this priority, the IDEA Data Management Center, at a minimum, must:

Knowledge Development Activities in Year One.

(a) Document the methods of collecting, processing, and reporting the IDEA Part B section 616 and 618 data for the 60 State educational agencies (SEAs). The documentation must align the data used by the States to meet the Part B IDEA data to the Common Education Data Standards (CEDS).

(b) Analyze the methods of collecting, processing, and reporting the Part B IDEA data for commonalities and challenges and identify States in need of intensive or targeted TA.

Technical Assistance and Dissemination Activities.

(a) Provide intensive TA ² to at least 10 States to improve their ability to utilize SLDS as sources for reporting Part B data required under sections 616 and 618 of IDEA. The Center must use information obtained through the activities described under paragraph (a) of the Knowledge Development Activities in Year One section of this priority to inform the intensive TA, which must be focused on States that are not using their SLDS to report their IDEA Part B section 616 and 618 data.

² “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

Note: Applicants must describe the methods and criteria they will use to recruit and select States for intensive TA. The Center must obtain approval from OSEP on the final selection of intensive TA States.

(b) Provide a range of targeted and general TA products and services for improving States' capacity to report high-quality Part B data required under sections 616 and 618 of IDEA. Such TA must include, at a minimum:

(1) Working with the Department to develop open source electronic tools to assist States in building EDFacts data files and reports that can be submitted to the Department and made available to the public. The tools must utilize CEDS and meet all States' and entities' needs associated with reporting the Part B data required under sections 616 and 618 of IDEA;

(2) Developing a plan to maintain the appropriate functionality of the open source electronic tools described in paragraph (1) as changes are made to data collections, reporting requirements, file specifications, and CEDS;

(3) Assisting States in preparing their data in order to use the open source electronic tools (e.g., transforming data into a data store);

(4) Conducting training with State staff to use the open source electronic tools;

(5) Developing CEDS “Connections” ³ to calculate metrics needed to report the Part B data required under sections 616 and 618 of IDEA; and

³ For more information on CEDS Connections, see: https://ceds.ed.gov/connect.aspx.

(6) Developing white papers and presentations that include tools and solutions to challenges in data management procedures and data system architecture for reporting the Part B data required under sections 616 and 618 of IDEA.

Coordination Activities.

(a) Communicate and coordinate, on an ongoing basis, with other Department-funded projects, including those providing data-related support to States, such as IDC, DaSy, the CEDS initiative, the SLDS program, the Privacy Technical Assistance Center, and CSI (if funded); and

(b) Maintain ongoing communication with the OSEP project officer.

In addition to these programmatic requirements, to be considered for funding under this priority, applicants must meet the application and administrative requirements in this priority. OSEP encourages innovative approaches to meet these requirements, which are:

(a) Demonstrate, in the narrative section of the application under “Significance of the Project,” how the proposed project will—

(1) Address State challenges in collecting, analyzing, and accurately reporting valid and reliable IDEA data on State data management procedures and data systems architecture and in building EDFacts data files and reports for timely and accurate reporting of the IDEA data to the Department and the public. To meet this requirement the applicant must—

(i) Demonstrate knowledge of IDEA data collections and EDFacts file specifications for the IDEA data collection; and

(ii) Present information about the difficulties that States have encountered in the collection and submission of valid and reliable IDEA data;

(2) Result in improved IDEA data collection and reporting.

(b) Demonstrate, in the narrative section of the application under “Quality of the Project Services,” how the proposed project will—

(1) Achieve the project's goals, objectives, and intended outcomes. To meet this requirement, the applicant must provide—

(i) Measurable intended project outcomes; and

(ii) The logic model by which the proposed project will achieve its intended outcomes;

(2) Use a conceptual framework to develop project plans and activities, describing any underlying concepts, assumptions, expectations, beliefs, or theories, as well as the presumed relationships or linkages among them, and any empirical support for this framework;

(3) Be based on current research and make use of evidence-based practices. To meet this requirement, the applicant must describe—

(i) The current research on the effectiveness of IDEA data collection strategies, data management procedures, and data systems architectures;

(ii) How the current research about adult learning principles and implementation science will inform the proposed TA; and

(iii) How the proposed project will incorporate current research and evidence-based practices in the development and delivery of its products and services;

(4) Develop products and provide services that are of high quality and sufficient intensity and duration to achieve the intended outcomes of the proposed project. To address this requirement, the applicant must describe—

(i) How it will develop knowledge of States' data management processes and data systems architecture;

(ii) How it will facilitate and support the leadership role State staff will take in improving States' data management procedures and data systems architecture;

(iii) Its proposed approach to universal, general TA ⁴ for the 60 SEAs;

⁴ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iv) Its proposed approach to targeted, specialized TA,⁵ which must identify—

⁵ “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of potential TA recipients to work with the project, assessing, at a minimum, their current infrastructure, available resources, and ability to build capacity at the local educational agency (LEA) level, as appropriate;

(v) Its proposed approach to intensive, sustained TA, which must identify—

(A) The intended recipients of the products and services under this approach;

(B) Its proposed approach to measure the readiness of the SEAs to work with the proposed project including the SEAs' commitment to the initiative, fit of the initiatives, current infrastructure, available resources, and ability to build capacity at the LEA level, as appropriate; and

(C) Its proposed plan for assisting SEAs to build training systems that include professional development based on adult learning principles and coaching.

(5) Develop products and implement services to maximize the project's efficiency. To address this requirement, the applicant must describe—

(i) How the proposed project will use technology to achieve the intended project outcomes; and

(ii) With whom the proposed project will collaborate and the intended outcomes of this collaboration.

(c) Demonstrate, in the narrative section of the application under “Quality of the Evaluation Plan,” how—

(1) The proposed project will collect and analyze data on specific and measurable goals, objectives, and intended outcomes of the project. To address this requirement, the applicant must describe its—

(i) Proposed evaluation methodologies, including instruments, data collection methods, and analyses; and

(ii) Proposed standards of effectiveness;

(2) The proposed project will use the evaluation results to examine the effectiveness of its implementation and its progress toward achieving the intended outcomes; and

(3) The methods of evaluation will produce quantitative and qualitative data that demonstrate whether the project achieved the intended outcomes.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) How key project personnel and any consultants and subcontractors will be allocated to the project and how these allocations are appropriate and adequate to achieve the project's intended outcomes;

(3) The proposed management plan will ensure that the products and services provided are of high quality; and

(4) The proposed project will benefit from a diversity of perspectives, including those of State and local personnel, TA providers, researchers, and policy makers, among others, in its development and operation.

(f) Address the following application requirements. The applicant must—

(1) Include in Appendix A of the application a logic model that depicts, at a minimum, the goals, activities, outputs, and outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A of the application a conceptual framework for the project;

(3) Include in Appendix A of the application person-loading charts and timelines, as applicable, to illustrate the management plan described in the narrative;

(4) Include in the proposed budget funding for attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' meeting in Washington, DC, to occur every other year beginning with the meeting scheduled for Summer, 2016;

(iii) Two annual two-day trips for Department briefings, Department-sponsored conferences, and other meetings, as requested by OSEP; and

(iv) A one-day intensive review meeting in Washington, DC, during the last half of the second year of the project period;

(5) Include in the budget a line item for an annual set-aside of five percent of the grant amount to support emerging needs that are consistent with the proposed project's intended outcomes, as those needs are identified in consultation with OSEP.

Note: With approval from the OSEP project officer, the project must reallocate any remaining funds from this annual set-aside no later than the end of the third quarter of each budget period; and

(6) Maintain a Web site that meets government or industry-recognized standards for accessibility.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We have also determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

An IDEA Data Management Center funded under the priority established by this regulatory action will assist States in complying with Federal laws and regulations. Without this regulatory action, the burden of improving State capacity to collect, report, and analyze IDEA data would fall solely on the responsible State and local entities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 31, 2014.
Michael K. Yudin,
Acting Assistant Secretary for Special Education and Rehabilitative Services.

[FR Doc. 2014-18481 Filed 8-4-14; 8:45 am]

BILLING CODE 4000-01-P